COMMODITY FUTURES TRADING COMMISSION

Sunshine Act Meetings

Time and Date: 10:30 a.m., Friday September 5, 2003.

Place: 1155 21st St., NW., Washington, DC, Room 9012.

Status: Closed.

Matters to be Considered: Surveillance Matters.

CONTACT PERSON FOR MORE INFORMATION: Jean A. Webb, (202) 418-5100.

Jean A. Webb,
Secretary of the Commission.

[FR Doc. 03-21912 Filed 8-22-03; 1:07 pm]

BILLING CODE 6351-01-M